DEPARTMENT OF HOMELAND SECURITY

Coast Guard

33 CFR Part 117

[Docket No. USCG-2013-0682]

Drawbridge Operation Regulation; Lewis and Clark River, Astoria, OR

AGENCY: Coast Guard, DHS.

ACTION: Notice of deviation from drawbridge regulation.

SUMMARY: The Coast Guard has issued a temporary deviation from the operating schedule that governs the Lewis and Clark Bridge which crosses the Lewis and Clark River, mile 1.0, at Astoria, OR. The deviation is necessary to accommodate major roadway maintenance on the bridge. This deviation allows the bridge to remain in the closed position and need not open to maritime traffic.

DATES: This deviation is effective from 7 a.m. on August 20, 2013 to 5 p.m. on August 21, 2013.

ADDRESSES: The docket for this deviation, [USCG-2013-0682] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Lieutenant Commander Steven M. Fischer, Thirteenth Coast Guard District Bridge Program Officer, telephone 206-220-7277, email Steven.M.Fischer2@uscg.mil. If you have questions on viewing the docket, call Barbara Hairston, Program Manager, Docket Operations, telephone 202-366-9826.

SUPPLEMENTARY INFORMATION: The Oregon Department of Transportation has requested that the Lewis and Clark Drawbridge, mile 1.0, remain in the closed position and not open to vessel traffic to facilitate the replacement of the wearing surface of the lift span. The bridge provides a vertical clearance of 25 feet above mean high water when in the closed position. Vessels able to pass through the bridge in the closed position may do so at anytime. Under normal operations this bridge opens on signal with advance notification as required by 33 CFR 117.899(c). This deviation allows the Lewis and Clark Drawbridge across the Lewis and Clark River in Astoria, OR to remain in the closed position and need not open for vessel traffic from 7 a.m. August 20, 2013 through 5 p.m. on August 21, 2013. The bridge shall operate in accordance to 33 CFR 117.899(c) at all other times. Waterway usage on the Lewis and Clark River is primarily recreational boaters and fishing vessels transiting to and from Astoria Marine Construction Company. Mariners will be notified and kept informed of the bridge's operational status via the Coast Guard Notice to Mariners publication and Broadcast Notice to Mariners as appropriate. The bridge will not be able to open for emergencies and there is no immediate alternate route for vessels to pass.

In accordance with 33 CFR 117.35(e), the drawbridge must return to its regular operating schedule immediately at the end of the effective period of this temporary deviation. This deviation from the operating regulations is authorized under 33 CFR 117.35.

Dated: July 29, 2013.
Daryl R. Peloquin,
Acting Bridge Administrator, Thirteenth Coast Guard District.

[FR Doc. 2013-19210 Filed 8-7-13; 8:45 am]

BILLING CODE 9110-04-P